DEPARTMENT OF COMMERCE

Bureau of Industry and Security

15 CFR Part 774

The Commerce Control List

CFR Correction

In Title 15 of the Code of Federal Regulations, Parts 300 to 799, revised as of January 1, 2011, on page 802, in Supplement No. 1 to Part 774, in Category 6, in ECCN 6A005, the following text is reinstated at the end of the entry:

6A005 “Lasers” (other than those described in 0B001.g.5 or .h.6), components and optical equipment, as follows (see List of Items Controlled).

* * * * *

Items:

* * * * *

d.5. “Chemical lasers”, as follows:

d.5.a. Hydrogen Fluoride (HF) “lasers”;

d.5.b. Deuterium Fluoride (DF) “lasers”;

d.5.c. “Transfer lasers”, as follows:

d.5.c.1. Oxygen Iodine (O2-I) “lasers”;

d.5.c.2. Deuterium Fluoride-Carbon dioxide (DF-CO2) “lasers”;

d.6. “Non-repetitive pulsed” Neodymium (Nd) glass “lasers”, having any of the following:

d.6.a. A “pulse duration” not exceeding 1 µs and an output energy exceeding 50 J per pulse; or

d.6.b. A “pulse duration” exceeding 1 µs and an output energy exceeding 100 J per pulse;

NOTE: “Non-repetitive pulsed” refers to “lasers” that produce either a single output pulse or that have a time interval between pulses exceeding one minute.

e. Components, as follows:

e.1. Mirrors cooled either by active cooling or by heat pipe cooling; Technical Note: Active cooling is a cooling technique for optical components using flowing fluids within the subsurface (nominally less than 1 mm below the optical surface) of the optical component to remove heat from the optic.

e.2. Optical mirrors or transmissive or partially transmissive optical or electro-optical components specially designed for use with controlled “lasers”;

f. Optical equipment, as follows:

N.B.: For shared aperture optical elements, capable of operating in “Super-High Power Laser” (“SHPL”) applications, see the U.S. Munitions List (22 CFR part 121).

f.1. Dynamic wavefront (phase) measuring equipment capable of mapping at least 50 positions on a beam wavefront having any the following:

f.1.a. Frame rates equal to or more than 100 Hz and phase discrimination of at least 5% of the beam's wavelength; or

f.1.b. Frame rates equal to or more than 1,000 Hz and phase discrimination of at least 20% of the beam's wavelength;

f.2. “Laser” diagnostic equipment capable of measuring “SHPL” system angular beam steering errors of equal to or less than 10 µrad;

f.3. Optical equipment and components specially designed for a phased-array “SHPL” system for coherent beam combination to an accuracy of lambda/10 at the designed wavelength, or 0.1 µm, whichever is the smaller;

f.4. Projection telescopes specially designed for use with “SHPL” systems.

[FR Doc. 2011-13179 Filed 5-25-11; 8:45 am]

BILLING CODE 1505-01-D